DEPARTMENT OF COMMERCE

International Trade Administration

[A-570-882]

Antidumping Duty Order: Refined Brown Aluminum Oxide (Otherwise Known as Refined Brown Artificial Corundum or Brown Fused Alumina) From the People's Republic of China

AGENCY: Import Administration, International Trade Administration, Department of Commerce.

ACTION: Notice of antidumping duty order.

SUMMARY: Pursuant to section 736(a) of the Tariff Act of 1930, as amended, the Department of Commerce is issuing an antidumping duty order on refined brown aluminum oxide (otherwise Known as refined brown artificial corundum or brown fused alumina) From the People's Republic of China.

EFFECTIVE DATE: November 19, 2003.

FOR FURTHER INFORMATION CONTACT: David J. Goldberger, Jim Mathews or Tinna E. Beldin, Import Administration, International Trade Administration, U.S. Department of Commerce, 14th Street and Constitution Avenue, NW., Washington, DC 20230; telephone (202) 482-4136, (202) 482-2778 or (202) 482-1655, respectively.

SUPPLEMENTARY INFORMATION:

Scope of Order

The merchandise covered by this investigation is ground, pulverized or refined brown artificial corundum, also known as refined brown aluminum oxide or brown fused alumina, in grit size of ⅜ inch or less. Excluded from the scope of the investigation is crude artificial corundum in which particles with a diameter greater than ⅜ inch constitute at least 50 percent of the total weight of the entire batch. The scope includes brown artificial corundum in which particles with a diameter greater than ⅜ inch constitute less than 50 percent of the total weight of the batch. The merchandise under investigation is currently classifiable under subheading 2818.10.20.00 of the Harmonized Tariff Schedule of the United States (HTSUS). Although the HTSUS subheading is provided for convenience and customs purposes, the written description of the merchandise under investigation is dispositive.

Antidumping Duty Order

On November 10, 2003, the International Trade Commission (the ITC) notified the Department of Commerce (the Department) of its final determination pursuant to section 735(b)(1)(A)(i) of the Tariff Act of 1930, as amended (the Act), that the industry in the United States producing refined brown aluminum oxide (RBAO) is materially injured by reason of less-than-fair-value imports of subject merchandise from the People's Republic of China (PRC). In addition, the ITC notified the Department of its final determination that critical circumstances do not exist with respect to imports of subject merchandise from the PRC that are subject to the Department's affirmative critical circumstances finding.

Therefore, in accordance with section 736(a)(1) of the Act, the Department will direct U.S. Customs and Border Protection (CBP) to assess, upon further advice by the Department, antidumping duties equal to the amount by which the normal value of the merchandise exceeds the export price of the merchandise for all relevant entries of RBAO from the PRC. These antidumping duties will be assessed on all unliquidated entries of RBAO from the PRC entered, or withdrawn from the warehouse, for consumption on or after May 6, 2003, the date on which the Department published the Notice of Preliminary Determination of Sales Less Than Fair Value, Affirmative Preliminary Determination of Critical Circumstances and Postponement of Final Determination: Refined Brown Aluminum Oxide (Otherwise known as Refined Brown Artificial Corundum or Brown Fused Alumina) from the People's Republic of China, 68 FR 23966.

With regard to the ITC negative critical circumstances determination, we will instruct CBP to lift suspension and to release any bond or other security, and refund any cash deposit made, to secure the payment of antidumping duties with respect to entries of the merchandise entered, or withdrawn from warehouse, for consumption on or after February 5, 2003, but before May 6, 2003. February 5, 2003 is 90 days prior to May 6, 2003, the date of publication of the Department's preliminary determination in the Federal Register.

CBP must require, at the same time as importers would normally deposit estimated duties on this merchandise, a cash deposit equal to the estimated weighted-average antidumping duty margins as noted below. The “PRC-wide Rate” applies to all exporters of RBAO not specifically listed below.

The weighted-average dumping margins are as follows:

Manufacturer/exporter | Margin (percent)
Zibo Jinyu Abrasive Co., Ltd. | 135.18
PRC-wide | 135.18

This notice constitutes the antidumping duty order with respect to RBAO from the PRC, pursuant to section 736(a) of the Act. Interested parties may contact the Department's Central Records Unit, Room B-099 of the Main Commerce Building, for copies of an updated list of antidumping duty orders currently in effect.

This order is published in accordance with section 736(a) of the Act and 19 CFR 351.211.

Dated: November 12, 2003.
James J. Jochum,
Assistant Secretary for Import Administration.

[FR Doc. 03-28803 Filed 11-18-03; 8:45 am]

BILLING CODE 3510-DS-P